DEPARTMENT OF HEALTH AND HUMAN SERVICES

National Institutes of Health

Center for Scientific Review; Amended Notice of Meeting

Notice is hereby given of a change in the meeting of the Pathobiology of Kidney Disease Study Section, October 07, 2013, 08:00 a.m. to October 07, 2013, 07:00 p.m., Residence Inn Bethesda, 7335 Wisconsin Avenue, Bethesda, MD 20814 which was published in the Federal Register on September 10, 2013, 78 FR 55268-55270.

The meeting will be held on November 18, 2013. The meeting time and location remain the same. The meeting is closed to the public.

Dated: October 25, 2013.
Anna Snouffer,
Deputy Director, Office of Federal Advisory Committee Policy.

[FR Doc. 2013-25760 Filed 10-29-13; 8:45 am]

BILLING CODE 4140-01-P